DEPARTMENT OF THE INTERIOR

National Park Service

[NPS-WASO-IEV-NPS0034957; PPWOIEADC0 PPMVSIE1Y.Y00000 PX.XIEAD0073.00.1; OMB Control Number 1024-NEW]

Agency Information Collection Activities; National Park Service, Survey of Educators

AGENCY: National Park Service, Interior.

ACTION: Notice of information collection; request for comment.

SUMMARY: In accordance with the Paperwork Reduction Act of 1995 we, the National Park Service (NPS) are proposing a new information collection.

DATES: Interested persons are invited to submit comments on or before June 20, 2023.

ADDRESSES: Please provide a copy of your comments to the NPS Information Collection Clearance Officer (ADIR-ICCO), 12201 Sunrise Valley Drive (MS-242) Reston, Virginia 20192 (mail); or to phadrea_ponds@nps.gov (email). Please reference OMB Control Number 1024-NEW (Educator Survey) in the subject line of your comments.

FOR FURTHER INFORMATION CONTACT: To request additional information about this ICR, contact Kerry Olsen, WASO Representative—NPS Interpretation, Education & Volunteers by email at kerry_olson@nps.gov or by telephone at 202-641-1152. Please reference OMB Control Number 1024-NEW (Educator Survey) in the subject line of your comments. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION:

In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by the Organic Act of 1916 (54 U.S.C. 100101), the NPS is charged with protecting cultural and natural resources for the enjoyment and education of current and future generations. The NPS Education Program Office administers education programs to fulfill the educational mission of the NPS. This new information collection request is for an online survey of elementary school educators in support of that mission. Results from this study will support the Education Program Office in its work to provide inspiring and informative educational programs to students across the country.

This study will include 3rd-5th grade educators who have or have not participated in NPS education programs. Collecting data from both groups will allow the NPS to understand program effectiveness, as well as identify barriers to participation and factors that may inspire future participation. This information collection will seek to understand educators' attitudes toward NPS Education Programs, management questions regarding program participation, and considerations for investing in and improving future program offerings.

Title of Collection: National Park Service Survey of Educators.

OMB Control Number: 1024-NEW.

Form Number: None.

Type of Review: New.

Respondents/Affected Public: General Public.

Total Estimated Number of Annual Respondents: 1,000.

Estimated Completion Time per Response: 15 minutes.

Total Estimated Number of Annual Burden Hours: 250 Hrs.

Respondent's Obligation: Voluntary.

Frequency of Collection: Once.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2023-08366 Filed 4-19-23; 8:45 am]

BILLING CODE 4312-52-P